DEPARTMENT OF ENERGY

Federal Energy Regulatory Commission

[Project No. 2955-010]

City of Watervliet; Notice of Intent To File License Application, Filing of Pre-Application Document, and Approving Use of the Traditional Licensing Process

a. Type of Filing: Notice of Intent to File License Application and Request to Use the Traditional Licensing Process.

b. Project No.: 2955-010.

c. Date Filed: February 28, 2017.

d. Submitted By: City of Watervliet.

e. Name of Project: Normanskill Hydroelectric Project.

f. Location: The Normanskill Hydroelectric Project is located on the Normans Kill in Guilderland, Albany County, New York. The project does not affect federal lands.

g. Filed Pursuant to: 18 CFR 5.3 of the Commission's regulations.

h. Potential Applicant Contact: Michele E. Stottler, Gomez and Sullivan Engineers, DPC, 399 Albany Shaker Road, Suite 203, Loudonville, New York 12211; (518) 407-0050 or email at mstottler@gomezandsullivan.com or Jeremy Smith, Acting City Manager, City of Watervliet, 2 Fifteenth Street, Watervliet, New York 12189, Phone: (518) 270-3800, Email: jsmith@watervliet.com.

i. FERC Contact: Woohee Choi at (202) 502-6336 or email at woohee.choi@ferc.gov.

j. City of Watervliet (Watervliet) filed its request to use the Traditional Licensing Process on February 28, 2017. Watervliet provided public notice of its request on March 3, 2017. In a letter dated April 27, 2017, the Director of the Division of Hydropower Licensing approved Watervliet's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Watervliet as the Commission's non-federal representative for carrying out informal consultation pursuant to section 7 of the Endangered Species Act and consultation pursuant to section 106 of the National Historic Preservation Act.

m. Watervliet filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a subsequent license for Project No. 2955-010. Pursuant to CFR 16.8, 16.9, and 16.10 each application for a subsequent license and any competing license applications must be filed with the Commission at least 24 months prior to the expiration of the existing license. All applications for license for this project must be filed by February 29, 2020.

p. Register online at http://www.ferc.gov/docs-filing/esubscription.asp to be notified via email of new filing and issuances related to this or other pending projects. For assistance, contact FERC Online Support.

Dated: April 27, 2017.
Kimberly D. Bose,
Secretary.

[FR Doc. 2017-09109 Filed 5-4-17; 8:45 am]

BILLING CODE 6717-01-P